DEPARTMENT OF ENERGY

Federal Energy Regulatory Commission

[Docket Nos. RP01-200-002 and RP01-350-001]

Colorado Interstate Gas Company; Notice of Compliance

July 19, 2001.

Take notice that on July 12, 2001, Colorado Interstate Gas Company (CIG) tendered for filing to become part its FERC Gas Tariff, First Revised Volume No. 1, the tariff sheets listed on the Appendix attached to the filing, to become effective July 1, 2001.

CIG states that the tendered tariff sheets implement the rates and terms and conditions of service set forth in the Stipulation and Agreement approved in this proceeding for CIG's new Scheduled Imbalance Penalty and interruptible Automatic Parking and Lending Service.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-18499 Filed 7-24-01; 8:45 am]

BILLING CODE 6717-01-P